DEPARTMENT OF TRANSPORTATION

Federal Aviation Administration

14 CFR Part 39

[Docket No. 2003-SW-38-AD; Amendment 39-13686; AD 2004-13-05]

RIN 2120-AA64

Airworthiness Directives; Eurocopter Deutschland Model MBB-BK 117 A-1, A-3, A-4, B-1, B-2, and C-1 Helicopters

AGENCY: Federal Aviation Administration, DOT.

ACTION: Final rule.

SUMMARY: This amendment adopts a new airworthiness directive (AD) for the specified Eurocopter Deutschland (ECD) model helicopters that requires inspecting the vertical fin skin paneling to determine if it was manufactured with the correct wall thickness. This amendment is prompted by a report from the manufacturer that some vertical fins may have been produced with the wrong vertical fin skin thickness. The actions specified by this AD are intended to prevent failure of the vertical fin and subsequent loss of control of the helicopter.

DATES: Effective July 30, 2004.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: A proposal to amend 14 CFR part 39 to include an AD for the specified model helicopters was published in the Federal Register on February 10, 2004 (69 FR 6214). That action proposed to require inspecting the vertical fin skin paneling to determine if it was manufactured with the correct wall thickness.

The Luftfahrt-Bundesamt (LBA), the airworthiness authority for the Federal Republic of Germany, notified the FAA that an unsafe condition may exist on ECD Model MBB-BK117 helicopters, Model A-1 up to B-2, serial number (S/N) all, and Model C-1, S/N 7500 up to 7545. The LBA advises that during tail boom production, metal sheeting of 0.6-millimeter (mm) thickness was found instead of the specified 0.8-mm thickness for the skin paneling of several tail booms.

ECD has issued Alert Service Bulletin No. ASB-MBB-BK117-30-109, Revision 1, dated July 3, 2003, which specifies measuring the wall thickness of the skin paneling of the vertical fin to determine the thickness. The LBA classified this service bulletin as mandatory and issued AD No. 2003-219, dated August 21, 2003, to ensure the continued airworthiness of these helicopters in the Federal Republic of Germany.

Interested persons have been afforded an opportunity to participate in the making of this amendment. No comments were received on the proposal or the FAA's determination of the cost to the public. The FAA has determined that air safety and the public interest require the adoption of the rule as proposed.

The FAA estimates that this AD will affect 132 helicopters of U.S. registry. The required actions will take about 1 hour per helicopter to do at an average labor rate of $65 per work hour. Based on these figures, we estimate the total cost impact of the AD on U.S. operators to be $8580 assuming no vertical fins will need to be replaced.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and is contained in the Rules Docket. A copy of it may be obtained from the Rules Docket at the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2004-13-05 Eurocopter Deutschland: Amendment 39-13686. Docket No. 2003-SW-38-AD.

Applicability: Model MBB-BK 117 A-1, A-3, A-4, B-1, and B-2, all serial numbers (S/N), and Model C-1, S/N 7500 through 7545, certificated in any category.

Compliance: Required within 100 hours time in service, unless accomplished previously.

To prevent failure of the vertical fin and subsequent loss of control of the helicopter, do the following:

(a) Using external calipers, measure the wall thickness, including primer coating, of the skin paneling of the vertical fin at the locations shown in Figure 1 of this AD.

Note 1: Eurocopter Deutschland (ECD) Alert Service Bulletin No. ASB-MBB-BK117-30-109, Revision 1, dated July 3, 2003, pertains to the subject of this AD.

BILLING CODE 4910-13-P

(b) If the wall thickness, including the primer coating, of the paneling is less than 0.778 millimeter (0.03063 inch) at any of the measured locations, replace the vertical fin with an airworthy part before further flight.

(c) To request a different method of compliance or a different compliance time for this AD, follow the procedures in 14 CFR 39.19. Contact the Safety Management Group, Rotorcraft Directorate, FAA, for information about previously approved alternative methods of compliance.

(d) This amendment becomes effective on July 30, 2004.

Note 2: The subject of this AD is addressed in Luftfahrt-Bundesamt (Federal Republic of Germany) AD 2003-219, dated August 21, 2003.

Issued in Fort Worth, Texas, on June 16, 2004.
David A. Downey,
Manager, Rotorcraft Directorate, Aircraft Certification Service.

[FR Doc. 04-14318 Filed 6-24-04; 8:45 am]

BILLING CODE 4910-13-C